FEDERAL MINE SAFETY AND HEALTH REVIEW COMMISSION

Sunshine Act Notice

TIME AND DATE: 10:00 a.m., Tuesday, February 7, 2023.

PLACE: The Richard V. Backley Hearing Room, Room 511, 1331 Pennsylvania Avenue NW, Suite 504 North, Washington, DC 20004 (enter from F Street entrance).

STATUS: Open.

MATTERS TO BE CONSIDERED: The Commission will hear oral argument in the matter Secretary of Labor on behalf of Saldivar v. Grimes Rock, Inc., Docket No. WEST 2021-0178-DM. (Issues include whether in a temporary reinstatement case, the Judge erred in ruling that economic reinstatement should not be tolled; whether the Judge erred in terminating economic reinstatement on the date of the merits decision; and whether the Judge erred in granting the motion to enforce the settlement agreement.)

Pursuant to the Commission's COVID-19 Workplace Safety Plan, in-person attendance shall be limited to persons participating in the oral argument process (e.g., Chair and Commissioners, parties and their representatives, Commission employees providing support for the meeting). Non-participating individuals may listen to the meeting by calling the phone number listed below in this notice.

Any person attending this oral argument who requires special accessibility features and/or auxiliary aids, such as sign language interpreters, must inform the Commission in advance of those needs. Subject to 29 CFR § 2706.150(a)(3) and § 2706.160(d).

CONTACT PERSON FOR MORE INFO: Emogene Johnson (202) 434-9935/(202) 708-9300 for TDD Relay/1-800-877-8339 for toll free.

PHONE NUMBER FOR LISTENING TO MEETING: 1 (866) 236-7472, Passcode: 678-100.

Authority: 5 U.S.C. 552b

Dated: January 26, 2023.
Sarah L. Stewart,
Deputy General Counsel.

[FR Doc. 2023-01966 Filed 1-26-23; 4:15 pm]

BILLING CODE 6735-01-P